DEPARTMENT OF DEFENSE

Department of the Navy

Secretarial Authorization for a Member of the Department of the Navy To Serve on the Board of Directors, Navy-Marine Corps Relief Society

AGENCY: Department of the Navy, DoD.

ACTION: Notice.

SUMMARY: Pursuant to 10 U.S.C. 1033, the Secretary of the Navy, with the concurrence of the Department of Defense General Counsel, has authorized Commander, Navy Installations Command, current incumbent Vice Admiral Dixon R. Smith, to serve without compensation on the Board of Directors of the Navy-Marine Corps Relief Society. Authorization to serve on the Board of Directors has been made for the purpose of providing oversight and advice to, and coordination with, the Navy-Marine Corps Relief Society.

Participation of the above official in the activities of the Society will not extend to participation in day-to-day operations.

FOR FURTHER INFORMATION CONTACT: Lieutenant Commander Abby Kagle, Office of the Judge Advocate General, Administrative Law Division, 703-614-7406.

Dated: April 29, 2015.
N.A. Hagerty-Ford,
Commander, Judge Advocate General's Corps, U.S. Navy, Federal Register Liaison Officer.

[FR Doc. 2015-10578 Filed 5-5-15; 8:45 am]

BILLING CODE 3810-FF-P